DEPARTMENT OF COMMERCE

National Oceanic and Atmospheric Administration

Agency Information Collection Activities; Submission to the Office of Management and Budget (OMB) for Review and Approval; Comment Request; Management and Oversight of the National Estuarine Research Reserve System

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 16, 2024.

ADDRESSES: Interested persons are invited to submit written comments to Adrienne Thomas, NOAA PRA Officer, at NOAA.PRA@noaa.gov. Please reference OMB Control Number 0648-0121 in the subject line of your comments. All comments received are part of the public record and will generally be posted on https://www.regulations.gov without change. Do not submit Confidential Business Information or otherwise sensitive or protected information.

FOR FURTHER INFORMATION CONTACT: Requests for additional information or specific questions related to collection activities should be directed to Elizabeth Mountz, Stewardship Division Operations Manager, NOAA's Office for Coastal Management, N/OCM6, Silver Spring, MD 20910, 240-533-0819, Elizabeth.Mountz@noaa.gov.

SUPPLEMENTARY INFORMATION:

I. Abstract

This request is for extension of a current information collection. The Coastal Zone Management Act of 1972, 16 U.S.C. 1451-1465, provides for the designation of estuarine research reserves representative of various regions and estuarine types in the United States to provide opportunities for long-term research, education and interpretation. During the site selection and designation process, information is collected from states in order to prepare a management plan and environmental impact statement. Designated reserves apply annually for operations funds by submitting a work plan; subsequently progress reports are required every six months for the duration of the award. Each reserve compiles an ecological characterization or site profile to describe the biological and physical environment of the reserve, research to date and research gaps. Reserves revise their management plans every five years. A competitive fellowship program supports opportunities for graduate students to conduct research at each reserve. This information is required to ensure that reserves are adhering to regulations and that the reserves are in keeping with the purpose for which they were designated.

II. Method of Collection

All information is collected electronically.

III. Data

OMB Control Number: 0648-0121.

Form Number(s): None.

Type of Review: Regular submission (extension of a current information collection).

Affected Public: Non-profit institutions; State, local, or Tribal governments.

Estimated Number of Respondents: 75.

Estimated Time per Response: Management Plan revisions: 1,600 hours/response; Site Profile: 1,800 hours/response; Reserve Designation: 2,500 hours/response; Cooperative Agreement progress reporting (including performance measures)—comprehensive: 10 hours/response: Cooperative Agreement reporting—final, non-comprehensive 2 hours/response; Performance Measures associated with Cooperative Agreement progress reporting: 3 hours/response; Cooperative Agreement application: 24 hours/response; NEPA and State Historic Preservation Office review: 2 hours/response.

Please note that not all collection instruments listed above apply to all respondents. Also, some of the actions/collection instruments listed above (Management Plan revisions, Site Profile, and Reserve Designations) take place over a multiyear period; NOAA has listed the total estimated response time for these actions rather than the estimated annual response time.

Estimated Total Annual Burden Hours: 9,632.

Estimated Total Annual Cost to Public: $0.

Respondent's Obligation: Required to Obtain or Retain Funding.

Legal Authority: 16 U.S.C. 1461. Regulations implementing the National Estuarine Research Reserve System are at 15 CFR part 921.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-15627 Filed 7-15-24; 8:45 am]

BILLING CODE 3510-08-P